DEPARTMENT OF HOMELAND SECURITY

Coast Guard

33 CFR Part 117

[Docket No. USCG-2013-0428]

Drawbridge Operation Regulation; Carquinez Strait, Martinez, CA

AGENCY: Coast Guard, DHS.

ACTION: Notice of deviation from drawbridge regulation.

SUMMARY: The Coast Guard has issued a temporary deviation from the operating schedule that governs the Union Pacific Railroad Drawbridge across the Carquinez Strait, mile 7.0 at Martinez, CA. The deviation is necessary to perform a cable replacement at the bridge. This deviation allows the bridge to remain the closed-to-navigation position during the repairs.

DATES: This deviation is effective from 7 a.m. on June 22, 2013 to 5 p.m. on June 30, 2013.

ADDRESSES: The docket for this deviation, [USCG-2013-0428], is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email David H. Sulouff, Chief, Bridge Section, Eleventh Coast Guard District; telephone 510-437-3516, email David.H.Sulouff@uscg.mil. If you have questions on viewing the docket, call Barbara Hairston, Program Manager, Docket Operations, telephone 202-366-9826.

SUPPLEMENTARY INFORMATION: Union Pacific Railroad Company has requested a temporary change to the operation of the Union Pacific Railroad Drawbridge, mile 7.0, over Carquinez Strait, at Martinez, CA. The drawbridge navigation span provides 135 feet vertical clearance above Mean High Water in the full open-to-navigation position, and 70 feet vertical clearance when closed. The draw opens on signal from approaching vessels, as required by 33 CFR 117.5. Navigation on the waterway is commercial and recreational.

The drawspan will be secured in the closed-to-navigation position to replace bridge lifting cables, from 7 a.m. to 5 p.m., on June 22, June 23, June 29, and June 30, 2013. The drawspan will be operational each night between 5 p.m. and 7 a.m.

This temporary deviation has been coordinated with commercial operators and San Francisco Bar Pilots Association. No objections to the proposed temporary deviation were raised. Vessels that can transit the bridge, while in the closed-to-navigation position, may continue to do so at any time.

In accordance with 33 CFR 117.35(e), the drawbridge must return to its regular operating schedule immediately at the end of the effective period of this temporary deviation. This deviation from the operating regulations is authorized under 33 CFR 117.35.

Dated: June 7, 2013.
D.H. Sulouff,
District Bridge Chief, Eleventh Coast Guard District.

[FR Doc. 2013-14555 Filed 6-18-13; 8:45 am]

BILLING CODE 9110-04-P